DEPARTMENT OF COMMERCE

National Oceanic and Atmospheric Administration

50 CFR Part 679

RIN 0648-XD682

Fisheries of the Exclusive Economic Zone Off Alaska; Small Vessel Exemptions; License Limitation Program

AGENCY: National Marine Fisheries Service (NMFS), National Oceanic and Atmospheric Administration (NOAA), Commerce.

ACTION: Notice of Agency decision.

SUMMARY: The National Marine Fisheries Service (NMFS) announces the approval of Amendment 108 to the Fishery Management Plan for Groundfish of the Bering Sea and Aleutian Islands Management Area (BSAI FMP), Amendment 100 to the Fishery Management Plan for Groundfish of the Gulf of Alaska (GOA FMP), and Amendment 46 to the Fishery Management Plan for Bering Sea/Aleutian Islands King and Tanner Crabs (Crab FMP). These amendments correct text omissions in the BSAI FMP, the GOA FMP, and the Crab FMP. These amendments make the fishery management plan (FMP) texts that establish vessel length limits for small vessels exempted from the license limitation program (LLP) in the Bering Sea and Aleutian Islands Management Area (BSAI) groundfish and king and Tanner crab fisheries, and the Gulf of Alaska (GOA) groundfish fisheries, consistent with the original intent of the LLP, current operations in the fisheries, and Federal regulations. This action promotes the goals and objectives of the Magnuson-Stevens Fishery Conservation and Management Act, the FMP, and other applicable laws.

DATES: The amendment was approved on April 27, 2015.

ADDRESSES: Electronic copies of Amendment 108 to the BSAI FMP, Amendment 100 to the GOA FMP, Amendment 46 to the Crab FMP, and the analysis prepared for this action are available from the Alaska Region NMFS Web site at http://alaskafisheries.noaa.gov.

FOR FURTHER INFORMATION CONTACT: Rachel Baker, 907-586-7228.

SUPPLEMENTARY INFORMATION: The Magnuson-Stevens Fishery Conservation and Management Act (Magnuson-Stevens Act) requires that each regional fishery management council submit proposed amendments to a fishery management plan to NMFS for review and approval, disapproval, or partial approval by the Secretary of Commerce (Secretary). The Magnuson-Stevens Act also requires that, upon receiving a fishery management plan amendment, NMFS immediately publish in the Federal Register a notice that the amendment is available for public review and comment.

The notice of availability for Amendment 108 to the BSAI FMP, Amendment 100 to the GOA FMP, and Amendment 46 to the Crab FMP was published in the Federal Register on February 12, 2015 (80 FR 7816), with a 60-day comment period that ended on April 13, 2015. NMFS received no comments on Amendment 108 to the BSAI FMP, Amendment 100 to the GOA FMP, and Amendment 46 to the Crab FMP.

NMFS determined that Amendment 108 to the BSAI FMP, Amendment 100 to the GOA FMP, and Amendment 46 to the Crab FMP are consistent with the Magnuson-Stevens Act and other applicable laws, and the Secretary approved Amendment 108 to the BSAI FMP, Amendment 100 to the GOA FMP, and Amendment 46 to the Crab FMP on April 27, 2015. The February 12, 2015, notice of availability contains additional information on this action. No changes to Federal regulations are necessary to implement Amendment 108 to the BSAI FMP, Amendment 100 to the GOA FMP, and Amendment 46 to the Crab FMP.

Amendment 108 amends Table ES-2 and Section 3.3.1 of the BSAI FMP; Amendment 100 amends Table ES-2 and Section 3.3.1 of the GOA FMP; and Amendment 46 amends Section 8.1.4.2 of the Crab FMP. Specifically, these FMP amendments add “or equal to” to the vessel length limits for small vessels that are exempt from the LLP in the BSAI groundfish and king and Tanner crab fisheries and GOA groundfish fisheries. The amendments have the effect of adding vessels 26 ft (7.9 m) LOA in the GOA and vessels 32 ft (9.8 m) LOA in the BSAI, including BSAI Crab, to the LLP exemption. These additions are necessary for consistency with Federal regulations that exempt from the LLP vessels that do “not exceed 26 ft (7.9 m) LOA” in the GOA and vessels that do “not exceed 32 ft (9.8 m) LOA” in the BSAI. Additional information can be found in the notice of availability for Amendment 108 to the BSAI FMP, Amendment 100 to the GOA FMP, and Amendment 46 to the Crab FMP (80 FR 7816, February 12, 2015) and the analysis prepared for this action (see ADDRESSES).

Since the implementation of the LLP by Amendment 39 to the BSAI FMP, Amendment 41 to the GOA FMP, and Amendment 5 to the Crab FMP, which were implemented by NMFS on October 1, 1998 (63 FR 52642), fisheries in the BSAI and GOA have been conducted according to Federal regulations and not the FMP texts; therefore, approval of Amendment 108 to the BSAI FMP, Amendment 100 to the GOA FMP, and Amendment 46 to the Crab FMP does not impact LLP license holders, fishing behavior or fisheries management in the U.S. Exclusive Economic Zone off Alaska. These amendments make the three FMPs consistent with the original intent of the Council and Secretary, current operations in the fisheries, and Federal regulations.

Response to Comments

NMFS did not receive any comments on Amendment 108 to the BSAI FMP, Amendment 100 to the GOA FMP, and Amendment 46 to the Crab FMP.

Authority: 16 U.S.C. 1801 et seq.

Dated: April 29, 2015.
Samuel D. Rauch III,
Deputy Assistant Administrator for Regulatory Programs, National Marine Fisheries Service.

[FR Doc. 2015-10413 Filed 5-4-15; 8:45 am]

BILLING CODE 3510-22-P